FEDERAL MARITIME COMMISSION

Notice of Agreements Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012301-002.

Title: Siem Car Carrier Pacific AS/Volkswagen Konzernlogistik GmBH & Co. OHG Space Charter Agreement.

Parties: Siem Car Carrier Pacific AS and Volkswagen Konzernlogistik GmBH & Co. OHG.

Filing Party: Ashley W. Craig, Esq., and Elizabeth K. Lowe, Esq.; Venable LLP; 575 Seventh Street NW., Washington, DC 20004.

Synopsis: The amendment changes the name of the Volkswagen party to the Agreement.

By Order of the Federal Maritime Commission.
Dated: August 14, 2015.
Rachel E. Dickon,
Assistant Secretary.

[FR Doc. 2015-20489 Filed 8-18-15; 8:45 am]

BILLING CODE P